COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete a product and service previously furnished by nonprofit agencies employing persons who are blind or have other severe disabilities.

Comments Must Be Received on or Before: 12/2/2013.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product and service are proposed for deletion from the Procurement List:

Product

NSN: 7930-01-367-0989—Cleaner, Water Soluble

NPA: Association for the Blind and Visually Impaired—Goodwill Industries of Greater Rochester, Rochester, NY

Contracting Activity: General Services Administration, Fort Worth, TX

Service

Service Type/Location: Janitorial/Custodial Service, Naval & Marine Corps Reserve Center, Spokane, WA

NPA: Career Connections, Spokane, WA

Contracting Activity: Dept of the Navy, U.S. Fleet Forces Command, Norfolk, VA

Barry S. Lineback,
Director, Business Operations.

[FR Doc. 2013-26047 Filed 10-31-13; 8:45 am]

BILLING CODE 6353-01-P